DEPARTMENT OF ENERGY

Federal Energy Regulatory Commission

[Docket No. RP01-609-000]

Viking Gas Transmission Company; Notice of Tariff Filing and Annual Charge Adjustment

September 25, 2001.

Take notice that on September 20, 2001, Viking Gas Transmission Company (Viking) tendered for filing as part of its FERC Gas Tariff, First Revised Volume No. 1 the following tariff sheets to become effective October 1, 2001:

Twenty-Sixth Revised Sheet No. 6

Nineteenth Revised Sheet No. 6A

Tenth Revised Sheet No. 6B

Viking states that the purpose of this filing is to decrease Viking's Annual Charge Adjustment (ACA) from $0.0022 per dekatherm to $0.0021 per dekatherm as permitted by Sections 154.204 and 154.402 of the Commission's Rules and Regulations, 18 C.F.R. § 154.204, 154.402 (2001). Viking's authority to make this filing is set forth in Article XIX of the General Terms and Conditions of Viking's FERC Gas Tariff, First Revised Volume No. 1.

Viking states that copies of the filing have been mailed to all of its jurisdictional customers and to affected state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24312 Filed 9-27-01; 8:45 am]

BILLING CODE 6717-01-P